ENVIRONMENTAL PROTECTION AGENCY

40 CFR Part 52

[EPA-R04-OAR-2010-0798-201147; FRL-9459-3]

Approval and Promulgation of Implementation Plans and Designations of Areas for Air Quality Planning Purposes; Georgia: Rome; Determination of Attainment by Applicable Attainment Date for the 1997 Annual Fine Particulate Standards

AGENCY: Environmental Protection Agency (EPA).

ACTION: Final rule.

SUMMARY: EPA is determining that the Rome, Georgia, fine particulate (PM2.5) nonattainment area (hereafter referred to as “the Rome Area”) has attained the 1997 annual PM2.5 national ambient air quality standards (NAAQS) by the applicable attainment date of April 5, 2010. The determination of attainment was previously finalized by EPA on April 5, 2011, and was based on quality-assured and certified monitoring data for the 2007-2009 monitoring period. The Rome Area is comprised of Floyd County, Georgia, in its entirety. EPA is determining that the Area attained the 1997 annual PM2.5 NAAQS by its applicable attainment date. EPA is finalizing this action because it is consistent with the Clean Air Act (CAA) and its implementing regulations.

DATES: Effective Date: This final rule is effective on October 11, 2011.

ADDRESSES: EPA has established a docket for this action under Docket ID Number EPA-R04-OAR-2010-0798. All documents in the docket are listed in the http://www.regulations.gov Web site. Although listed in the electronic docket, some information is not publicly available, i.e., confidential business information (CBI) or other information whose disclosure is restricted by statute. Certain other material, such as copyrighted material, is not placed on the Internet and will be publicly available only in hard copy form. Publicly available docket materials are available either electronically through http://www.regulations.gov or in hard copy for public inspection during normal business hours at the Regulatory Development Section, Air Planning Branch, Air, Pesticides and Toxics Management Division, U.S. Environmental Protection Agency, Region 4, 61 Forsyth Street, SW., Atlanta, Georgia 30303-8960.

FOR FURTHER INFORMATION CONTACT: Joel Huey or Sara Waterson, Regulatory Development Section, Air Planning Branch, Air, Pesticides and Toxics Management Division, U.S. Environmental Protection Agency, Region 4, 61 Forsyth Street, SW., Atlanta, Georgia 30303-8960. Mr. Huey's telephone number is (404) 562-9104. Mr. Huey can also be reached via electronic mail at huey.joel@epa.gov. Ms. Waterson may be reached by phone at (404) 562-9061 or via electronic mail at waterson.sara@epa.gov.

SUPPLEMENTARY INFORMATION:

I. What action is EPA taking?

II. EPA's Response to Comment

III. What is the effect of this action?

IV. What is EPA's final action?

V. Statutory and Executive Order Reviews

I. What action is EPA taking?

Based on EPA's review of the quality-assured and certified monitoring data for 2007-2009, and in accordance with section 179(c)(1) of the CAA and EPA's regulations, EPA is determining that the Rome Area attained the 1997 annual PM2.5 NAAQS by the applicable attainment date of April 5, 2010.

On April 5, 2011, EPA published a final rulemaking to make a determination of attainment and to suspend the requirements for the Rome Area to submit an attainment demonstration and associated reasonably available control measures (RACM), reasonable further progress (RFP) plan, contingency measures, and other planning State Implementation Plan (SIP) revisions related to attainment of the 1997 annual PM2.5 NAAQS so long as the Area continues to attain the 1997 annual PM2.5 NAAQS. See 76 FR 18650. That final rulemaking also includes useful background information on the PM2.5 NAAQS relevant to the Rome Area. Today's action makes a determination that the Rome Area attained the1997 annual PM2.5 NAAQS by the applicable attainment date of April 5, 2010. Today's action is simply focused on the date by which the Area had attaining data.

Other specific requirements of the determination and the rationale for EPA's action are explained in the notice of proposed rulemaking (NPR) published on June 2, 2011 (76 FR 31898). The comment period closed on July 5, 2011. One comment was received in response to the NPR.

II. EPA's Response to Comment

EPA received one comment on the June 2, 2011, proposed rulemaking to determine the Rome Area attained the 1997 PM2.5 NAAQS by its applicable attainment date of April 5, 2010. The comment, from the Labor-Management Standards Office, is provided in the docket for this final action and can be accessed at http://www.regulations.gov using Docket ID No. EPA-R04-OAR-2010-0798. The Commenter stated, “[n]o more rules.” The comment provides insufficient information upon which to base a response. As a point of clarification, today's action is required by section 179(c)(1) of the CAA. For that reason, this rulemaking is both necessary and appropriate.

III. What is the effect of this action?

Today's action is a determination that the Rome Area attained the 1997 annual PM2.5 NAAQS by its applicable attainment date of April 5, 2010, consistent with CAA section 179(c)(1). Finalizing this action does not constitute a redesignation of the Rome Area to attainment of the 1997 annual PM2.5 NAAQS under section 107(d)(3) of the CAA. Further, finalizing this action does not involve approving maintenance plans for the Rome Area as required under section 175A of the CAA, nor does it involve a determination that the Rome Area has met all requirements for a redesignation. The designation status of the Rome Area remains nonattainment for the 1997 annual PM2.5 NAAQS until such time as EPA determines that the Area meets the CAA requirements for redesignation to attainment and takes formal action to redesignate the Area.

IV. What is EPA's final action?

EPA is determining, based on quality-assured and certified monitoring data for the 2007-2009 monitoring period, that the Rome Area attained the 1997 annual PM2.5 NAAQS by the applicable attainment date of April 5, 2010. This action is being taken pursuant to section 179(c)(1) of the CAA and is consistent with the CAA and its implementing regulations.

V. Statutory and Executive Order Reviews

This action makes a determination of attainment based on air quality and does not impose additional requirements beyond those imposed by state law. For that reason, this action:

• Is not a “significant regulatory action” subject to review by the Office of Management and Budget under Executive Order 12866 (58 FR 51735, October 4, 1993);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the CAA; and

• Does not provide EPA with the discretionary authority to address, as appropriate, disproportionate human health or environmental effects, using practicable and legally permissible methods, under Executive Order 12898 (59 FR 7629, February 16, 1994).

In addition, this determination that the Rome Area attained the 1997 annual average PM2.5 NAAQS by the applicable attainment date does not have tribal implications as specified by Executive Order 13175 (65 FR 67249, November 9, 2000), because the SIP is not approved to apply in Indian country located in the state, and EPA notes that it will not impose substantial direct costs on tribal governments or preempt tribal law.

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the CAA, petitions for judicial review of this action must be filed in the United States Court of Appeals for the appropriate circuit by November 7, 2011. Filing a petition for reconsideration by the Administrator of these final rules does not affect the finality of these actions for the purposes of judicial review nor does it extend the time within which a petition for judicial review may be filed, and shall not postpone the effectiveness of such rule or action. This action may not be challenged later in proceedings to enforce its requirements. (See section 307(b)(2).)

List of Subjects in 40 CFR Part 52

Environmental protection, Air pollution control, Incorporation by reference, Intergovernmental relations, Particulate matter, Reporting and recordkeeping requirements.

Dated: August 18, 2011.
Beverly H. Banister,
Acting Regional Administrator, Region 4.

40 CFR part 52 is amended as follows:

PART 52—[AMENDED]

1. The authority citation for part 52 continues to read as follows:

Authority: 42 U.S.C. 7401 et seq.

Subpart L—Georgia

2. Section 52.577 is amended by adding paragraph (c) to read as follows:

§ 52.577 Determination of attainment.

* * * * *

(c) Based upon EPA's review of the air quality data for the 3-year period 2007-2009, EPA determined that the Rome, Georgia PM2.5 nonattainment area attained the 1997 annual PM2.5 NAAQS by the applicable attainment date of April 5, 2010. Therefore, EPA has met the requirement pursuant to CAA section 179(c) to determine, based on the Area's air quality as of the attainment date, whether the Area attained the standard. EPA also determined that the Rome, Georgia PM2.5 nonattainment area is not subject to the consequences of failing to attain pursuant to section 179(d).

[FR Doc. 2011-22833 Filed 9-7-11; 8:45 am]

BILLING CODE 6560-50-P